DEPARTMENT OF TRANSPORTATION

Federal Transit Administration

[Docket No.: FTA-2023-0006]

Notice of Availability of Programmatic Assessment of Greenhouse Gas Emissions From Transit Projects

AGENCY: Federal Transit Administration (FTA), Department of Transportation (DOT).

ACTION: Notice of availability.

SUMMARY: The Federal Transit Administration (FTA) announces the availability of a Programmatic Assessment of Greenhouse Gas Emissions from Transit Projects (Programmatic Assessment). On September 25, 2023, FTA announced in the Federal Register the availability of the draft Programmatic Assessment and requested public comment. FTA received six comment letters and presents its responses to those comments in this notice.

DATES: The final Programmatic Assessment is effective immediately.

ADDRESSES: The final Programmatic Assessment will be made available in the U.S. Government's electronic docket site at https://www.regulations.gov/docket/FTA-2023-0006 and on the FTA website at https://www.transit.dot.gov/regulations-and-programs/environmental-programs/climate-considerations.

FOR FURTHER INFORMATION CONTACT: Megan Blum, Office of Environmental Programs, (202) 366-0463, Megan.Blum@dot.gov, or Alexandra Brun, Office of Environmental Programs, (202) 366-7469, Alexandra.Brun@dot.gov; Mark Montgomery, Office of Chief Counsel, (202) 366-1017, Mark.Montgomery@dot.gov. Office hours are from 9:00 a.m. to 5:00 p.m. ET, Monday through Friday, except Federal holidays.

SUPPLEMENTARY INFORMATION:

Background

The National Environmental Policy Act (NEPA) requires Federal agencies to disclose and analyze the environmental effects of their proposed actions. In 2016, the Council on Environmental Quality (CEQ) issued the Final Guidance for Federal Departments and Agencies on Consideration of Greenhouse Gas Emissions and the Effects of Climate Change in National Environmental Policy Act Reviews (81 FR 51866) (2016 CEQ guidance), which provided a framework for agencies to consider the effects of a proposed action on climate change, as indicated by its estimated GHG emissions and advised agencies to assess the effects of climate change on their proposed actions. The 2016 CEQ guidance also acknowledged that incorporation by reference is of great value in considering GHG emissions or the implications of climate change for the proposed action and its environmental effects. The 2016 CEQ guidance noted that an agency may decide that it would be useful and efficient to provide an aggregate analysis of GHG emissions or climate change effects in a programmatic analysis and then incorporate that analysis by reference into future NEPA reviews. FTA considers it practicable to assess the effects of GHG emissions and climate change for transit projects at a programmatic level, where possible.

In January 2017, FTA published a Programmatic Assessment of Greenhouse Gas Emissions from Transit Projects (82 FR 5636) based on the 2016 CEQ guidance framework. In January 2023, CEQ issued the National Environmental Policy Act Guidance on Consideration of Greenhouse Gas Emissions and Climate Change (88 FR 1196) (2023 CEQ guidance) to assist agencies in analyzing greenhouse gas (GHG) emissions and climate change effects of their proposed actions under NEPA. The 2023 CEQ guidance continues to support a programmatic approach for assessing GHG emissions from transit projects.

The 2024 Programmatic Assessment of Greenhouse Gas Emissions from Transit Projects (Programmatic Assessment) updates and supersedes the 2017 Programmatic Assessment in accordance with the 2023 CEQ guidance. The 2024 Programmatic Assessment is a NEPA streamlining tool that creates greater efficiency by: (1) reporting on whether certain types of proposed transit projects merit detailed analysis of their GHG emissions at the project-level; and (2) providing a source of data and analysis for FTA and its project sponsors to reference in future environmental documents for projects where detailed, project-level GHG analysis would provide only limited information beyond what is collected and considered in the Programmatic Assessment. The Programmatic Assessment is intended to update and supersede FTA's January 2017 Programmatic Assessment of Greenhouse Gas Emissions from Transit Projects (82 FR 5636).

The Programmatic Assessment presents results from an analysis to estimate direct and indirect GHG emissions generated from the construction, operations, and maintenance phases for a sample of bus rapid transit, streetcar rail, light rail, commuter rail, and heavy rail projects, as well as an estimate of personal vehicle emissions displaced due to transit's “ridership effect.” Emissions estimates were calculated using FTA's Transit Greenhouse Gas Estimator (GHG Estimator), version 3.0 (https://www.transit.dot.gov/regulations-and-guidance/environmental-programs/ftas-transit-greenhouse-gas-emissions-estimator), which is an Excel-based tool that allows users to calculate partial lifecycle GHG emissions estimates by transit mode based on limited data inputs. The 2023 CEQ guidance also indicates that project proponents should place potential GHG emissions and their impacts in appropriate context. In order to provide additional context for the GHG estimates included in the Programmatic Assessment, the net social benefits of reduced operational emissions resulting from each transit project in the sample were estimated.

The Programmatic Assessment provides a reference for FTA and its project sponsors to use in future NEPA documents to describe the effects of proposed transit investments on partial lifecycle GHG emissions. The Programmatic Assessment's results can inform transit project proponents who are considering the GHG emissions of future transit investments or who might independently want to evaluate the GHG emissions benefits and cost of such investments.

Comments Received

On September 25, 2023, FTA announced in the Federal Register the availability of the draft Programmatic Assessment and requested public comment. As of the date of issuance of this notice of availability, FTA considered all comments received in the docket. FTA received comments from one transit agency, two state Departments of Transportation (DOT), one trade association, one nonprofit organization, and one member of the public. This notice discusses the comments FTA received, organized here by topic, and provides FTA's responses to those comments.

Comment: One state DOT commented that the Programmatic Assessment does not include GHG emissions associated with the induced VMT that can occur if new highway capacity is constructed in lieu of transit.

Response: The Programmatic Assessment is intended to serve as a NEPA streamlining tool for transit projects. FTA is not attempting to quantify GHG emissions for highway projects, nor is the Programmatic Assessment aiming to compare potential transit projects to potential highway projects. Furthermore, highway capacity projects are not usually considered reasonable alternatives to proposed transit projects during the environmental review (the stage in which a transit agency would be expected to refer to the Programmatic Assessment).

Comment: A state DOT asserted the sample size of transit projects used in the analysis could lead to unreliable results.

Response: FTA first stresses that the use of the Programmatic Assessment (or the GHG Estimator) as a reference and NEPA streamlining tool is entirely voluntary. FTA also notes that the sample of transit projects analyzed in the Programmatic Assessment included 68 transit projects that applied for funding through the 49 U.S.C. 5309 Capital Investment Grants (CIG) Program. This represents an increase of 32 transit projects as compared to the sample used in the 2017 Programmatic Assessment (36 transit projects). FTA believes the sample relied upon is representative of transit project types that will seek FTA funding and, consequently, require compliance with NEPA. In cases in which a proposed project's characteristics and assumptions are similar to the sample, FTA recommends that transit agencies considering bus rapid transit, streetcar, light rail, and commuter rail projects incorporate the Programmatic Assessment by reference into their NEPA analyses.

Comment: A state DOT questioned the use of forecasts of automobile VMT reductions as the metric by which transit operations and GHG emissions be measured, pointing out that ratios of displaced automobile VMT to transit VMT in the Programmatic Assessment ranged from 1:1 to 48:1.

Response: FTA acknowledges there are other metrics by which transit operations can be measured. The results presented in the Programmatic Assessment rely on an analysis that uses GHG emissions per VMT as the metric to evaluate vehicle operations. Other metrics, such as emissions per revenue vehicle hour, which measures operational efficiency, and emissions per passenger- or seat-mile, which takes service productivity into account, offer useful benchmarks. The Programmatic Assessment does recast results to account for passenger loads for each transit mode. Those results suggested that even during times of lower than usual transit ridership, all transit modes can be expected to result in net annual GHG emissions reductions when considering GHG emissions on a per-passenger basis. Adding further information is inconsistent with the information transit agencies provide in CIG templates—the primary data source for the transit project sample. Additionally, the methodology used in the Programmatic Assessment is optional and may be tailored to a specific transit project. FTA notes that Appendix B offers characteristics for each individual project in the sample of transit projects referred to for the assessment. FTA also reiterates the Programmatic Assessment's point that the ratios that the comment identified were all for the sample heavy rail projects. Given the limited number of projects within that heavy rail sample and the wide variation in the estimated GHG emissions across it, the Programmatic Assessment recommends that FTA's GHG Estimator or another locally recommended approach be used to make project-specific GHG emissions estimates in NEPA analyses for heavy rail projects.

Comment: A state DOT stated that findings for transit projects other than large-scale, fixed-guideway projects are not included.

Response: FTA clarifies that the Programmatic Assessment examines the GHG impacts of project types included in CIG templates. The analysis presented is intended to be a voluntary NEPA streamlining tool, providing a source of data and analysis for FTA and its project sponsors to reference in future environmental documents for projects where detailed, project-level GHG analysis would provide only limited information beyond what is collected and considered in the Programmatic Assessment.

Comment: A state DOT asserted that region-based electricity factors should be used.

Response: The Programmatic Assessment methodology relies on the best available data and tools to estimate the GHG emissions associated with transit projects. In the Programmatic Assessment, the emissions factors associated with electrically powered vehicles use the “U.S. Mix” region from the Environmental Protection Agency's (EPA's) eGRID2020, which represents an average value for the country. FTA acknowledges here and in the Programmatic Assessment that the “U.S. Mix” may differ from region-specific factors. For regions with cleaner electricity generation mixes than the U.S. Mix, this approach will overestimate emissions for electrically powered vehicles. Likewise, this approach will underestimate emissions for the same in regions where electricity production is less clean than the U.S. Mix. Figure 4-2 in the Programmatic Assessment illustrates the differences in the GHG emissions associated with an example light rail project across different eGRID subregions. Appendix A in the Programmatic Assessment includes the eGRID sub-region electricity emission factors; these factors are incorporated in the Programmatic Assessment's accompanying Estimator Tool. Transit agencies can replicate the methodology that the Programmatic Assessment establishes using locally available data sets, if they choose to do so.

Comment: One state DOT requested additional clarification about the sample projects.

Response: FTA developed the Programmatic Assessment to provide transit agencies with an analysis of the effects of GHG emissions for certain types of projects that they can reference in future environmental review documents to meet NEPA requirements without necessitating a project-specific evaluation for that impact area. The sample of transit projects analyzed in the Programmatic Assessment included 68 transit projects that applied for funding through the CIG Program. Specific characteristics of those projects are in Appendix B of the Programmatic Assessment. Additional information regarding CIG projects is available in annual reports to Congress that FTA is required by law to prepare (https://www.transit.dot.gov/funding/grant-programs/capital-investments/annual-report-funding-recommendations).

Comment: One state DOT recommended that more details be provided to explain the differences in results included in the draft Programmatic Assessment relative to the results reported in the superseded 2017 Programmatic Assessment.

Response: For construction GHG emissions data, the 2017 Programmatic Assessment relied on the Infrastructure Carbon Estimator version 1 (ICE v1). A second version of that tool, ICE v2, was developed in the interim between the 2017 Programmatic Assessment and the current Programmatic Assessment. The current Programmatic Assessment relied on ICE v2. Construction GHG emission rates included in ICE v2 are higher than those in ICE v1 due to the use of higher quality data and modeling. Furthermore, for bus rapid transit projects specifically, FTA reduced the period over which GHG emissions were amortized from 50 years to 40 years to reflect minimum useful lifespans, per FTA Circular 5010.1E, more accurately. These changes result in GHG emissions estimates that appear higher in the current Programmatic Assessment than in the 2017 Programmatic Assessment. FTA will note the ICE versioning differences in a footnote in the Programmatic Assessment and clarify the minimum useful lifespan figure used for bus rapid transit.

Comment: One state DOT recommended additional factors be considered when applying the GHG calculation methodology to the no action alternatives in Appendix C.

Response: The 2023 CEQ guidance suggests that NEPA reviews identify the current and projected future state of the affected environment without the proposed action (i.e., the no action alternative), which serves as the baseline for considering the effects of the proposed action and its reasonable alternatives. In the context of the Programmatic Assessment, the effects of the no action alternative are represented by the GHG emissions from automobile use that is expected to occur in the absence of the transit project (i.e., automobile VMT displaced in the action alternative). Other than displaced automobile VMT, data on other aspects of the no action alternative, such as displaced GHG emissions from road maintenance and construction, were not included. Use of the Programmatic Assessment by transit agencies is voluntary; transit agencies that want to develop more holistic estimates of GHG emissions for a project-specific no action alternative may opt to do so.

Comment: One nonprofit organization: (1) requested additional clarification on when project-specific analysis is required; and (2) recommended that FTA work with the Federal Highway Administration (FHWA) to conduct programmatic GHG-related emissions evaluations during the long-range transportation planning process.

Response: FTA reiterates its recommendation that in cases in which the project characteristics and assumptions are similar to the sample of analyzed projects, transit agencies considering bus rapid transit, streetcar, light rail, and commuter rail projects may incorporate the Programmatic Assessment by reference into their NEPA analyses. In these cases, no additional project-specific GHG emissions analyses would be necessary for purposes of NEPA. Use of the Programmatic Assessment is voluntary, and transit agencies may choose to conduct their own GHG emissions analyses if they determine the Programmatic Assessment does not meet their project needs. FTA will evaluate the Programmatic Assessment and the accompanying Estimator, as appropriate, to provide better estimates of GHG emissions for transit projects. The Estimator is available for transit agencies that wish to have a more tailored estimate of emissions or for which a project differs substantially from those used to create the Programmatic Assessment.

On the second general point, during development of the 2017 Programmatic Assessment FTA worked with FHWA to discuss approaches to considering GHG emissions consistent with the 2016 CEQ guidance. FTA will continue to explore best practices for considering GHG emissions at other stages during transportation project development, including long-range transportation planning.

Comment: One trade association suggested that FTA exclude maintenance projects from requirements for GHG assessments.

Response: FTA notes that use of Programmatic Assessment as a reference and NEPA streamlining tool is entirely voluntary. The Programmatic Assessment does not introduce any new requirements. Rather, the Programmatic Assessment recommends that NEPA reviews for new individual light rail, street car, bus rapid transit, and commuter rail projects incorporate by reference the analysis of construction-related, operations-related, and maintenance-related upstream and downstream GHG emissions in cases in which the project characteristics and assumptions are similar to the sample projects analyzed The Programmatic Assessment does not consider emissions from or provide recommendations for projects that maintain existing systems.

Comment: One trade association suggested that FTA recognize the critical influence of transit on energy-efficient community design.

Response: FTA revised the Programmatic Assessment to further highlight energy-efficient community design as a benefit of transit. The report notes that transit enables denser, more energy-efficient land use patterns that keep GHG emissions low through fewer and/or shorter driving trips, more trips on foot or by bicycle, and a reduction in car ownership and use.

Authority: 42 U.S.C. 4321 et seq.; 40 CFR 1507.3; 49 CFR 1.81(a)(5) and 1.91(c).

Mark Ferroni,
Acting Associate Administrator for Planning and Environment.

[FR Doc. 2024-08915 Filed 4-24-24; 8:45 am]

BILLING CODE 4910-57-P